DEPARTMENT OF HOUSING AND URBAN DEVELOPMENT

[Docket No. FR-5648-N-03]

Final Fair Market Rents for the Housing Choice Voucher Program and Moderate Rehabilitation Single Room Occupancy Program Fiscal Year 2013; Revised

AGENCY: Office of the Assistant Secretary for Policy Development and Research, HUD.

ACTION: Notice of Final Fiscal Year (FY) 2013 Fair Market Rents (FMRs).

SUMMARY: This notice updates the FMRs for Hood River County, OR, based on a survey of rents conducted by the Public Housing Agency (PHA) in August 2012.

DATES: Effective Date: October 1, 2012.

FOR FURTHER INFORMATION CONTACT: For technical information on the methodology used to develop FMRs or a listing of all FMRs, please call the HUD USER information line at 800-245-2691 or access the information on the HUD USER Web site http://www.huduser.org/portal/datasets/fmr.html. FMRs are listed at the 40th or 50th percentile in Schedule B. For informational purposes, 40th percentile recent-mover rents for the areas with 50th percentile FMRs will be provided in the HUD FY 2013 FMR documentation system at http://www.huduser.org/portal/datasets/fmr/fmrs/docsys.html&data=fmr13 and 50th percentile rents for all FMR areas will be published at http://www.huduser.org/portal/datasets/50per.html.

Questions related to use of FMRs or voucher payment standards should be directed to the respective local HUD program staff. Questions on how to conduct FMR surveys or concerning further methodological explanations may be addressed to Marie L. Lihn or Peter B. Kahn, Economic and Market Analysis Division, Office of Economic Affairs, Office of Policy Development and Research, telephone 202-708-0590. Persons with hearing or speech impairments may access this number through TTY by calling the toll-free Federal Relay Service at 800-877-8339. (Other than the HUD USER information line and TDD numbers, telephone numbers are not toll-free.)

SUPPLEMENTARY INFORMATION: The FY 2012 FMRs for Hood River County, OR, were over 20 percent lower than they were in FY 2011. While FMRs for Hood River County increased in FY 2013, they were still about 10 percent lower than they were in FY 2011. The PHA was having trouble managing its program with these lower FMR levels and so they conducted a survey of rents for Hood River County. The results of this survey were provided to HUD in mid-September, which was too late in the FMR review process to be included in the FY 2013 FMR final notice.

HUD has reviewed the survey data and determined that the FY 2013 FMRs for Hood River County, OR, are revised as follows:

FMR by Number of Bedrooms in Unit
FY 2013 FMR Area | 0 BR | 1 BR | 2 BR | 3 BR | 4 BR
Hood River County, OR | $671 | $701 | $831 | $1225 | $1335

Dated: October 23, 2012.
Erika C. Poethig,
Acting Assistant Secretary for Policy Development and Research.

[FR Doc. 2012-28920 Filed 11-28-12; 8:45 am]

BILLING CODE 4210-67-P